DEPARTMENT OF TRANSPORTATION

Federal Aviation Administration

RTCA Special Committee 186; Automatic Dependent Surveillance—Broadcast (ADS-B)

Pursuant to section 10(a)(2) of the Federal Advisory Committee Act (Pub. L. 92-463, 5 U.S.C., Appendix 2), notice is hereby given for Special Committee (SC)-186 meeting to be held February 5-8, 2001, starting at 9 a.m. The meeting will be held at the Sheraton Four Points Barcelo Hotel, 10220 North Metro Parkway East, Phoenix, AZ 85051.

The agenda will include: February 5: Working Group (WG)-4, Airborne Separation Assurance (ASA) Minimum Aviation System Performance Standards (MASPS); February 6, 7: WG-1, Operations and Implementation; WG-4, ASA MASPS; February 8: Plenary Session: (1) Welcome and Introductory Remarks; (2) Review of Meeting Agenda; (3) Review and Approval of the Previous Meeting Minutes, RTCA Paper No. 394-00/SC186-175; (4) Briefing—FAA ADS-B “Big Picture” Roadmap; (5) Briefing—ASDE-X Program; (6) Briefing—OCG-3 Memphis Op Eval-PM Status and Plans; (7) Briefing—DOD Requirements Process; (8) Eurocae WG-51 Status Report; (9) SC-186 Activity Reports for the following Working Groups: (a) WG-1, Operations & Implementation; (b) WG-2, Traffic Information Services—Broadcast (TIS-B); (c) WG-3, 1090 MHz Minimum Operational Performance Standards (MOPS); (d) WG-4, Application Technical Requirements; (e) WG-5, Universal Access Transceiver (UAT) MOPS; (f) Ad Hoc MASPS Working Group (DO-242); (10) Review Action Items/Work Program; (11) Other Business; (12) Date and Location of Next Meeting; (13) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or the on-site contact, Greg Stayton at (602) 436-1234 (phone), (602) 436-5500 (fax) or greg.stayton@1-3com.com (email). Members of the public may present a written statement to the committee at any time.

Issued in Washington, DC, on January 3, 2001.
Janice L. Peters,
Designated Official.

[FR Doc. 01-1094 Filed 1-11-01; 8:45 am]

BILLING CODE 4910-13-M